DEPARTMENT OF EDUCATION

Office of Special Education and Rehabilitative Services; Overview Information; Technology and Media Services for Individuals With Disabilities—Technology Implementation Center; Notice Inviting Applications for New Awards for Fiscal Year (FY) 2004

Catalog of Federal Domestic Assistance (CFDA) Number: 84.327M.

Dates:

Applications Available: June 28, 2004.

Deadline for Transmittal of Applications: July 30, 2004.

Deadline for Intergovernmental Review: September 28, 2004.

Eligible Applicants: State educational agencies (SEAs), local educational agencies (LEAs), institutions of higher education (IHEs), other public agencies, nonprofit private organizations, outlying areas, freely associated States, Indian tribes or tribal organizations, and for-profit organizations.

Estimated Available Funds: $1,000,000.

Maximum Award: We will reject any application that proposes a budget exceeding $1,000,000 for a single budget period of 12 months. The Assistant Secretary for Special Education and Rehabilitative Services may change the maximum amount through a notice published in the Federal Register.

Number of Awards: 1.

Note: The Department is not bound by any estimates in this notice.

Project Period: Up to 60 months.

Full Text of Announcement

I. Funding Opportunity Description

Purpose of Program: The purpose of the Technology and Media Services for Individuals With Disabilities—Technology Implementation Center competition is to: (1) Improve results for children with disabilities by promoting the development, demonstration, and use of technology; (2) support educational media activities designed to be of educational value to children with disabilities; (3) provide support for some captioning, and video description; and (4) provide cultural experiences through appropriate nonprofit organizations.

Priority: In accordance with 34 CFR 75.105(b)(2)(iv), this priority is from allowable activities specified in the statute (see sections 661(e)(2) and 687 of the Individuals with Disabilities Education Act, as amended (IDEA)).

Absolute Priority: For FY 2004 this priority is an absolute priority. Under 34 CFR 75.105(c)(3), we consider only applications that meet this priority.

This priority is:

Technology and Media Services for Individuals with Disabilities—Technology Implementation Center.

Background: The IDEA and the No Child Left Behind Act of 2001 (NCLB) emphasized the importance of linking research and practice to improving educational results for children with disabilities. In more than 20 years of supporting special education technology research, the Office of Special Education Programs (OSEP) has tested practices that indicate that appropriate technology, embedded in strong education practice, holds significant promise for helping students with disabilities achieve at higher levels. These practices have varying degrees of research validation. Some are backed by significant research support and might appropriately undergo the high level of scientific review offered by the What Works Clearinghouse. Other practices have some research support and classroom success, and should be considered promising but not yet validated.

Introducing technology as a tool is not enough, however, the infusion of technology into instructional practices requires systematic, sustained training and classroom support. Building capacity is at the heart of an effective system. To support such a system means providing States and local school districts with sufficient information and support to provide an underpinning for large-scale implementation efforts. Such activities can play a pivotal role in building the capacity States and local districts need to support school-wide change.

Priority: This priority will support a cooperative agreement for a center (Center) to support SEAs and LEAs in implementing and evaluating selected practices that integrate technology into sound teaching so children with disabilities will have access to the general education curriculum and will achieve to high educational standards.

The Center's activities in selecting practices and in assisting SEAs and LEAs in implementing practices must include, but are not limited to, the following:

(a) Selecting existing evidence-based and promising practices that integrate technology into teaching and learning appropriate for students with disabilities. These may include validated practices with high levels of research support, but also may include promising practices with incomplete research support as long as the latter clearly are identified as needing more validation. Applicants are encouraged to focus on practices selected from the What Works Clearinghouse, the National Study of the Effectiveness of Educational Technology required by NCLB, and rigorous research syntheses. The Center, however, also may conduct research syntheses and meta-analyses in areas that are not being addressed by other projects, or supplement available research evidence with additional evidence related to students with disabilities.

(b) Developing implementation strategies to support SEAs and LEAs in implementing practices that integrate technology into sound teaching for students with disabilities. The implementation strategies must provide for the continued implementation of the practices after Federal support ends.

(c) Identifying and recruiting SEAs and LEAs to implement the practices. In selecting sites, the Center must consider such elements as cultural and linguistic diversity, family income, urban and rural settings, regional geographic location, and cost effectiveness.

(d) Providing professional development and technical assistance aligned with current national, State, and local policies to motivate and build capacity of administrative leaders, decisionmakers, and teachers to implement practices that integrate technology into sound teaching for students with disabilities. These activities must include both regular and special education partnerships and must make use, when appropriate, of administrative supports and both internal and external resources.

(e) Assisting SEAs and LEAs in evaluating the selected practices, the outcomes of the professional development and technical assistance provided, and the effect on student academic outcomes.

(f) Creating partnerships with relevant programs and organizations to assist with scale up and sustainability efforts.

(g) Preparing and disseminating information and products for specific audiences, as appropriate, such as parents, administrators, teachers, related services personnel, researchers, and individuals with disabilities.

The project funded under this priority also must:

(a) Meet with the OSEP project officer and other appropriate staff in Washington, DC, within the first two months of the project to clarify project activities and develop a strategic plan.

(b) Communicate, collaborate, and form partnerships as appropriate, with such entities as: technical assistance providers at the national, regional, and local levels; centers that are part of the Special Education Technical Assistance and Dissemination Network, such as the National Center on Educational Outcomes, the Center on Student Progress Monitoring, and the National Dissemination Center; the National Institute on Disability and Rehabilitation Research (NIDRR); the Institute Of Education Sciences' What Works Clearinghouse; and the National and Regional Parent Technical Assistance Centers. In particular, the project shall build and maintain approaches for communication and collaboration with research and demonstration projects that are addressing issues related to the focus of this priority.

(c) Establish, maintain, and meet at least annually with an advisory committee consisting of representatives of SEAs and LEAs, individuals with disabilities, parents, educators, professional organizations and advocacy groups, researchers, persons conversant with literature on change theory and sustainability, and other appropriate groups to review and advise on the Center's plans, products, and activities.

(d) Budget for a two-day Project Directors' meeting in Washington, DC during each year of the project.

(e) In addition to the two-day Project Directors' meeting listed in paragraph (d), budget for two additional trips annually to Washington, DC, (1) to attend the Technical Assistance and Dissemination Project Directors' meeting and (2) to attend the Technology Project Directors' meeting.

(f) If a project maintains a Web site, it must include relevant information and documents in an accessible form.

Fourth and Fifth Years of Project: In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review;

(b) The timeliness and effectiveness with which all requirements of the negotiated cooperative agreement have been or are being met by the project; and

(c) The degree to which the project is making a positive contribution—and its strategies are demonstrating the potential for disseminating significant knowledge to SEAs and LEAs—to using technology to improve student outcomes.

Waiver of Proposed Rulemaking: Under the Administrative Procedure Act (5 U.S.C. 553) the Department generally offers interested parties the opportunity to comment on proposed priorities. However, section 661(e)(2) of the IDEA makes the public comment requirements of the Administrative Procedure Act inapplicable to the priority in this notice.

Program Authority: 20 U.S.C. 1487.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Cooperative agreement.

Estimated Available Funds: $1,000,000.

Maximum Award: We will reject any application that proposes a budget exceeding $1,000,000 for a single budget period of 12 months. The Assistant Secretary for Special Education and Rehabilitative Services may change the maximum amount through a notice published in the Federal Register.

Number of Awards: 1

Note: The Department is not bound by any estimates in this notice.

Project Period: Up to 60 months.

III. Eligibility Information

1. Eligible Applicants: SEAs, LEAs, IHEs, other public agencies, nonprofit private organizations, outlying areas, freely associated States, Indian tribes or tribal organizations, and for-profit organizations.

2. Cost Sharing or Matching: This competition does not involve cost sharing or matching.

3. Other: General Requirements—(a) A project funded under this competition must make positive efforts to employ and advance in employment qualified individuals with disabilities (see section 606 of the IDEA).

(b) Applicants and grant recipients funded under this notice must involve individuals with disabilities or parents of individuals with disabilities in planning, implementing, and evaluating the projects (see section 661(f)(1)(A) of the IDEA).

IV. Application and Submission Information

1. Address To Request Application Package: Education Publications Center (ED Pubs), P.O. Box 1398, Jessup, MD 20794-1398. Telephone (toll free): 1-877-433-7827. Fax: (301) 470-1244. If you use a telecommunications device for the deaf (TDD), you may call (toll free): 1-877-576-7734.

You may also contact ED Pubs at its Web site: www.ed.gov/pubs/edpubs.html or you may contact ED Pubs at its e-mail address: edpubs@inet.ed.gov.

If you request an application from ED Pubs, be sure to identify this competition as follows: CFDA Number 84.327M.

Individuals with disabilities may obtain a copy of the application package in an alternative format (e.g., Braille, large print, audiotape, or computer diskette) by contacting the persons listed in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, the letters of support, or the appendix. However, you must include all of the application narrative in Part III.

We will reject your application if—

• You apply these standards and exceed the page limit; or

• You apply other standards and exceed the equivalent of the page limit.

3. Submission Dates and Times:

Applications Available: June 28, 2004.

Deadline for Transmittal of Applications: July 30, 2004.

The dates and times for the transmittal of applications by mail or by hand (including a courier service or commercial carrier) are in the application package for this competition. The application package also specifies the hours of operation of the e-Application Web site.

We do not consider an application that does not comply with the deadline requirements.

Deadline for Intergovernmental Review: September 28, 2004.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Instructions and requirements for the transmittal of applications by mail or by hand (including a courier service or commercial carrier) are in the application package for this competition.

Application Procedures:

Note: Some of the procedures in these instructions for transmitting applications differ from those in EDGAR (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications: We are continuing to expand our pilot project for electronic submission of applications to include additional formula grant programs and additional discretionary grant competitions. The Special Education—Technology and Media Services for Individuals with Disabilities Program—Technology Implementation Center competition—CFDA Number 84.327M is one of the competitions included in the pilot project. If you are an applicant under the Special Education—Technology and Media Services for Individuals with Disabilities Program—Technology Implementation Center competition—CFDA Number 84.327M, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 245-6272.

• We may request that you give us original signatures on other forms at a later date.

Application Deadline Date Extension in Case of System Unavailability: If you elect to participate in the e-Application pilot for the Special Education—Technology and Media Services for Individuals with Disabilities Program—Technology Implementation Center competition—CFDA Number 84.327M and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-GRANTS help desk at 1-888-336-8930.

You may access the electronic grant application for the Special Education—Technology and Media Services for Individuals with Disabilities Program—Technology Implementation Center competition—CFDA Number 84.327M at: http://e-grants.ed.gov.

V. Application Review Information

Selection Criteria: The selection criteria for this competition are listed in 34 CFR 75.210 of EDGAR. The specific selection criteria to be used for this competition are in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department is currently developing measures that will yield information on various aspects of the quality of the Technology and Media Services to Improve Services and Results for Children with Disabilities program (e.g., the extent to which projects are of high quality, are relevant to the needs of children with disabilities, and contribute to improving results for children with disabilities). Data on these measures will be collected from the projects funded under this notice.

Grantees will also be required to report information on their projects' performance in annual reports to the Department (EDGAR, 34 CFR 75.590).

We will notify grantees of the performance measures once they are developed.

VII. Agency Contact

FOR FURTHER INFORMATION CONTACT: Jane Hauser, U.S. Department of Education, 400 Maryland Avenue, SW., room 4092, Potomac Center Plaza, Washington, DC 20202-2550. Telephone: (202) 245-7373.

If you use a telecommunications device for the deaf (TDD), you may call the Federal Information Relay Service (FIRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 205-8207.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: June 24, 2004.
Troy R. Justesen,
Acting Deputy Assistant Secretary for Special Education and Rehabilitative Services.

[FR Doc. 04-14660 Filed 6-25-04; 8:45 am]

BILLING CODE 4000-01-P